DEPARTMENT OF ENERGY

Federal Energy Regulatory Commission

[Docket Nos. RP00-495-000 and RP01-97-000]

Texas Gas Transmission Corporation; Notice of Technical Conference

April 19, 2001.

On August 16, 2000, Texas Gas Transmission Corporation (Texas Gas) made a filing in Docket No. RP00-495-000 to comply with Order No. 637. Several parties have protested various aspects of Texas Gas's filing. Take notice that a technical conference to discuss the various issues raised by Texas Gas's filing will be held on May 24, 2001, beginning at 9 a.m. in room 3M-2A&B at the offices of the Federal Energy Regulatory Commission, 888 First Street, NE., Washington, DC 20426. Persons protesting aspects of Texas Gas's filing should be prepared to answer questions and discuss alternatives. Issues pertaining to Texas Gas's filing in Docket No. RP01-97-000 may also be discussed.

All interested persons are permitted to attend. The issues to be discussed will include, but are not limited to:

A. Penalties

B. Segmentation

C. Flexible Point Rights

D. Imbalance Services

E. OFOs

F. Discount Policy Regarding Changed Receipt and Delivery Points

G. The Location in Texas Gas's tariff of the provisions pertaining to the above issues

Texas Gas should provide a system map for use at the conference.

The above schedule may be changed as circumstances warrant.

David P. Boergers,
Secretary.

[FR Doc. 01-10195 Filed 4-24-01; 8:45 am]

BILLING CODE 6717-01-M